DEPARTMENT OF THE INTERIOR

National Park Service

[N6394; NPS-WASO-NAGPRA-NPS0040766; PPWOCRADN0-PCU00RP14.R50000]

Notice of Intended Repatriation: California State University, Chico, CA

AGENCY: National Park Service, Interior.

ACTION: Notice.

SUMMARY: In accordance with the Native American Graves Protection and Repatriation Act (NAGPRA), the California State University, Chico intends to repatriate certain cultural items that meet the definition of sacred objects/objects of cultural patrimony and that have a cultural affiliation with the Indian Tribes or Native Hawaiian organizations in this notice.

DATES: Repatriation of the cultural items in this notice may occur on or after September 4, 2025.

ADDRESSES: Send additional, written requests for repatriation of the cultural items in this notice to Michelle Hansen, California State University, Chico, 400 W. 1st Street, Chico, CA 95929, email mcampbell19@csuchico.edu.

SUPPLEMENTARY INFORMATION: This notice is published as part of the National Park Service's administrative responsibilities under NAGPRA. The determinations in this notice are the sole responsibility of the California State University, Chico and additional information on the determinations in this notice, including the results of consultation, can be found in the summary or related records. The National Park Service is not responsible for the determinations in this notice.

Abstract of Information Available

Tomato Patch Village Site, Fort Ross Archaeological Project-AMA-WISA-TP (CA-SON-1455/H)

A total of 4,013 cultural items, or lots of items, have been requested for repatriation. The 4,013 sacred objects/objects of cultural patrimony are 425 lots of obsidian flakes, 110 lots of projectile points, 162 lots of soil, 370 lots of debitage, 68 lots of glass, 242 lots of wood, 332 lots of unmodified faunal elements, 1,069 lots of modified stone, 14 lots of ceramics, 15 lot of metal, nine lots of plastic, 810 lots of unmodified shell, 159 lots of modified shell, six lots of modified clay, 42 lots of unmodified clay, 103 lots of charcoal, one lot of ochre, and 76 lots of unmodified flora. The archaeological recovery of the Tomato Patch Village Site (CA-SON-1455/H) was carried out in the mid-1990's by Antoinette Martinez as part of the Fort Ross Archaeological Project. The site is in Sonoma County and sits along the coastline of northern California, within the traditional territory of the Kashia Band of Pomo Indians. No known potentially hazardous substances were used to treat any of the cultural items.

Ridge Site, Fort Ross Archaeological Project-RS (CA-SON-177)

A total of 907 cultural items, or lots of items, have been requested for repatriation. The 907 sacred objects/objects of cultural patrimony are 92 lots of obsidian flakes, three lots of projectile points, 32 lots of soil, 44 lots of debitage, 43 lots of glass, 21 lots of wood, 102 lots of unmodified faunal elements, one lot of modified faunal elements, 255 lots of modified stone, one lot of ceramics, one lot of metal, one lot of plastic, 247 lots of unmodified shell, three lots of modified shell, eight lots of unmodified clay, 17 lots of charcoal, and 36 lots of unmodified flora. The archaeological recovery of the Ridge Site (CA-SON-177) was conducted as part of the Fort Ross Archaeological Project, which took place in the early 1990's in Sonoma County. The archaeological recovery focused on the Kashia Band of Pomo Indians and their interactions with Russian settlers during the colonial period. No known potentially hazardous substances were used to treat any of the cultural items.

Determinations

The California State University, Chico has determined that:

• The 4,920 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 4, 2025. If competing requests for repatriation are received, the California State University, Chico must determine the most appropriate requestor prior to repatriation. Requests for joint repatriation of the cultural items are considered a single request and not competing requests. The California State University, Chico is responsible for sending a copy of this notice to the Indian Tribes and Native Hawaiian organizations identified in this notice and to any other consulting parties.

Authority: Native American Graves Protection and Repatriation Act, 25 U.S.C. 3004 and the implementing regulations, 43 CFR 10.9.

Dated: July 28, 2025.
Melanie O'Brien,
Manager, National NAGPRA Program.

[FR Doc. 2025-14794 Filed 8-4-25; 8:45 am]

BILLING CODE 4312-52-P